DEPARTMENT OF COMMERCE

National Oceanic and Atmospheric Administration

[I.D. 112103A]

Proposed Information Collection; Comment Request; Northeast Region Permit Family of Forms

AGENCY: National Oceanic and Atmospheric Administration (NOAA), Department of Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before February 2, 2004.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Brian Hooker, National Marine Fisheries Service, One Blackburn Drive, Gloucester, MA 01930, (978) 281-9220.

SUPPLEMENTARY INFORMATION:

I. Abstract

Any individual or organization participating in federally-controlled fisheries is required to obtain permits. The purpose and use of permits is to: (1) Register fishermen, fishing vessels, fish dealers, and processors; (2) List the characteristics of fishing vessels and/or dealer/processor operations; (3) Exercise influence over compliance (e.g., withhold issuance pending collection of unpaid penalties); (4) Provide a mailing list for the dissemination of important information to the industry; (5) Register participants to be considered for limited entry; and (6) Provide a universe for data collection samples. Identification of the participants, their gear types, vessels, and expected activity levels is an effective tool in the enforcement of fishery regulations. This information is needed to measure the consequences of management controls as well. The participants in certain fisheries may also be required to notify NMFS before fishing trips for the purpose of observer placement and to make other reports on fishing activities.

II. Method of Collection

Initial permit applications are made by a signed paper form. After initial permit issuance, a pre-printed permit renewal form is generated via computer, using current permit information. This form is then sent to the permit holder for updating. If no changes to the pre-printed form are required, the applicant simply needs to sign the form and return it with any other information (e.g., current state registration or U.S. Coast Guard document) required for permit renewal.

Automated reporting by means of a vessel monitoring system (VMS) is required for all vessels issued a full-time or part-time limited access sea scallop permit, or scallop vessels fishing under the small dredge program. All remaining limited access Northeast (NE) multispecies, monkfish, red crab, and scallop vessels are required to report via a days-at-sea (DAS) call-in system. Vessel owners issued a limited access NE multispecies, monkfish, occasional scallop, or combination permit may voluntarily elect to use the VMS in place of the DAS call-in system. This reporting is required in order to monitor: (1) Usage of DAS allocations; (2) Compliance with vessel layover requirements; (3) Compliance with days out of the fishery requirements; (4) Compliance with closed area regulations; and (5) Compliance with exempted fishery regulations.

III. Data

OMB Number: 0648-0202.

Form Number: None.

Type of Review: Regular submission.

Affected Public: Business and other for-profit organizations; individuals or households; and State, Local, or Tribal Government.

Estimated Number of Respondents: 42,334.

Estimated Time Per Response: An initial vessel permit application requires an estimated 45 minutes to complete and preprinted vessel permit renewal forms require an estimated 30 minutes per response. Initial dealer permit applications take an estimated 15 minutes to complete and preprinted dealer permit renewal forms require an estimated 5 minutes to complete. The initial and renewal vessel operator permit applications are estimated to take an average of 1 hour to complete due to the color photograph submission requirement. Limited access vessel upgrade or replacement applications take approximately 3 hours to complete. Applications for retention of limited access permit history require an estimated 30 minutes.

Limited access NE multispecies, combination, occasional scallop, and monkfish vessels must notify NMFS via the call-in system of the start date and end date for each fishing trip. The estimated time per response is 2 minutes. It is estimated to take NE multispecies and monkfish vessels approximately 3 minutes to declare of blocks of time out of the gillnet fishery. The burden of vessel monitoring for full-time and part-time limited access scallop vessels or authorized NE multispecies, combination, and occasional scallop vessels is estimated to be 1 hour for installation of a VMS unit, 5 minutes for verification of installation of the VMS unit, and 30 seconds per poll for automated polling of vessel position. Vessels required to have a fully functional VMS unit at all times may request to turn off the VMS (power-down exemption) at approximately 30 minutes per request. Requests for observer coverage are estimated to require 2 minutes per request.

Limited access vessels fishing under DAS requirements that have assisted in U.S. Coast Guard search and rescue operations or assisted in towing a disabled vessel may apply for Good Samaritan DAS credits at a burden of 30 minutes per application. Owners or operators of vessels seeking a Letter of Authorization (LOA) to participate in any of the exemption programs must request an LOA from the Administrator, Northeast Region, NMFS (Regional Administrator). The estimated time required to request an LOA is 5 minutes. Vessels fishing in the North Atlantic Fisheries Organization (NAFO) Regulatory Area that wish to be exempt from NE multispecies regulations while transiting the EEZ with NE multispecies on board, or landing NE multispecies in U.S. ports, must request an LOA (5 minutes) in addition to possessing a valid High Seas Fishing Compliance permit under 50 CFR part 300. An LOA (5 minutes) is also required for permitted vessels intending to transfer selected species from one vessel to another, as follows: Loligo and butterfish moratorium permit, or Illex moratorium permit, and vessels issued a mackerel or squid/butterfish incidental catch permit that intend to transfer Loligo, Illex, or butterfish; vessels issued a NE multispecies or scallop permit that intend to transfer species other than regulated species; and NE multispecies vessels intending to transfer up to 500 lb (227 kg) of combined small-mesh NE multispecies per trip for use as bait.

Owners of charter/party vessels intending to fish in the Nantucket Lightship Closure Area must request an LOA from the Regional Administrator, with an estimated time of 5 minutes per request. Vessels fishing under Charter/Party regulations in Gulf of Maine (GOM) closed areas must obtain a Charter/Party Exemption Certificate for GOM Closed Areas, at an estimated 2 minutes per request.

Limited access sea scallop vessels wishing to participate in either the state waters DAS exemption program or the state waters gear exemption program must notify the Regional Administrator by VMS or call-in notification. Participants in the sea scallop state waters exemption programs using VMS notification must notify the Regional Administrator prior to the first trip in the exemption program and prior to the first planned trip in the EEZ, at an estimated 2 minutes per response. Participants in these exemption programs using the call-in system must notify the Regional Administrator at least 7 days prior to fishing under the exemption, at an estimated 2 minutes per call. If participants using the call-in system wish to withdraw from either state waters exemption program prior to the end of the 7-day designated exemption period requirement, they must also call the Regional Administrator to notify of early withdrawal, at an estimated 2 minutes per call.

Surfclam and ocean quahog vessel owners or operators are required to call the NMFS Office of Law Enforcement (OLE) nearest to the point of offloading prior to the departure of the vessel from the dock. It requires approximately 2 minutes for a vessel owner or operator to notify OLE of the vessel's departure from the dock to fish for surf clams or ocean quahogs in the EEZ.

In the American lobster fishery, initial lobster area designations are estimated to take 5 minutes, requests for additional tags is estimated to take 2 minutes, and notification of lost tags is estimated to take 3 minutes.

In the NE multispecies fishery, a request for change in permit category designation requires approximately 2 minutes, and a request for transit to another port by a vessel required to remain in the GOM cod trip limit takes 2 minutes.

In the gillnet fisheries for NE multispecies and monkfish, the burden estimate for calling out of the fishery is 3 minutes. Gillnet category designation, including initial requests for gillnet tags, requires approximately 10 minutes. Requests for additional tags require an estimated 2 minutes. Notification of lost tags and requests for replacement tag numbers also require an estimated 2 minutes. It will take approximately 1 minute to attach each gillnet tag.

Requests for state quota transfers in the bluefish and summer flounder fisheries are estimated to require 1 hour.

Estimated Total Annual Burden Hours: 20,212.

Estimated Total Annual Cost to Public: $1,348,473.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology. Comments submitted in response to this notice will be summarized and/or included in the request for OMB approval of this information collection; they also will become a matter of public record.

Dated: November 19, 2003.
Gwellnar Banks,
Management Analyst, Office of the Chief Information Officer.

[FR Doc. 03-30176 Filed 12-3-03; 8:45 am]

BILLING CODE 3510-22-S